DEPARTMENT OF LABOR

Pension and Welfare Benefits Administration

Agency Information Collection Activities; Announcement of OMB Approval

AGENCY: Pension and Welfare Benefits Administration, Department of Labor.

ACTION: Notice of approval.

SUMMARY: The Pension and Welfare Benefits Administration (PWBA) is announcing that collections of information included in regulations pertaining to: PTCE 81-8, investment of plan assets in certain types of short-term investments; PTCE T88-1, adoption by the FERS Thrift Savings Fund of certain prohibited transaction class exemptions granted pursuant to section 408(a) of the Employee Retirement Income Security Act of 1974 (ERISA); and, PTCE 94-71, certain transactions or activities authorized by a settlement agreement resulting from an investigation of an employee benefit plan conducted by the Department of Labor, have been approved by the Office of Management and Budget (OMB) under the Paperwork Reduction Act of 1995 (PRA 95). This notice announces the OMB approval numbers and expiration dates.

FOR FURTHER INFORMATION CONTACT: Address requests for copies of the information collection requests (ICRs) to Gerald B. Lindrew, U.S. Department of Labor, Pension and Welfare Benefits Administration, 200 Constitution Avenue, NW., Room N-5647, Washington, DC 20210. Telephone: (202) 219-4782. This is not a toll-free number.

SUPPLEMENTARY INFORMATION: In the Federal Register of June 27, 2001 (66 FR 34269), PWBA announced its intent to request renewal of its current OMB approval for the information collection provisions in a regulation pertaining to investment of plan assets in certain types of short-term investments. In accordance with the PRA 95, OMB has renewed its approval for the ICR under OMB control number 1210-0061. The approval expires November 30, 2004.

In the Federal Register of June 27, 2001 (66 FR 34271), the Agency announced its intent to request renewal of its current OMB approval for the information collection provisions of Transaction Exemption T88-1, related to the adoption by the FERS Thrift Savings Fund of certain class exemptions granted pursuant to section 408(a) of ERISA. In accordance with PRA 95, OMB has renewed its approval for the ICR under OMB control number 1210-0074. The approval expires November 30, 2004.

In the Federal Register of June 27, 2001 (66 FR 34270), the Agency announced its intent to request renewal of its current OMB approval for the information collection provisions of PTCE 94-71, exempting certain transactions authorized by a settlement agreement resulting from an investigation of an employee benefit plan under ERISA. In accordance with PRA 95, OMB has renewed its approval for the ICR under OMB control number 1210-0091. The approval expires November 30, 2004.

Under 5 CFR 1320.5 (b), an Agency may not conduct or sponsor, and a person is not required to respond to, a collection of information unless the collection of information displays a valid control number.

Dated: November 20, 2001.
Gerald B. Lindrew,
Deputy Director, Office of Policy and Research, Pension and Welfare Benefits Administration.

[FR Doc. 01-29422 Filed 11-26-01; 8:45 am]

BILLING CODE 4510-29-P